DEPARTMENT OF ENERGY

Federal Energy Regulatory Commission

[Docket No. ER01-372-001]

New England Power Company; Notice of Filing

January 10, 2001.

Take notice that on December 29, 2000, New England Power Company (NEP), pursuant to section 205 of the Federal Power Act, 16 U.S.C. 824d (1994) and section 35.13 of the Commission's Rules and Regulations, 18 CFR 35.13, withdraws its service agreement filed with the Commission on November 6, 2000 in Docket No. ER01-372-000, and submits for filing a First Revised Service Agreement No. 124 between NEP and ANP Bellingham Energy Company for Firm Local Generation Delivery Service under NEP's Open Access Transmission Tariff, FERC Electric Tariff, Original Volume No. 9.

Copies of the filing were served upon ANP Bellingham Energy Company and regulators in the Commonwealth of Massachusetts.

Any person desiring to be heard or to protest said filing should file a motion to intervene or protest with the Federal Energy Regulatory Commission, 888 First Street, NE., Washington, DC 20426, in accordance with Rules 211 and 214 of the Commission's Rules of Practice and Procedure (18 CFR 385.211 and 385.214). All such motions and protests should be filed on or before January 19, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 01-1312 Filed 1-16-01; 8:45 am]

BILLING CODE 6717-01-M